DEPARTMENT OF COMMERCE

Foreign-Trade Zones Board

[Order No. 2018]

Reorganization of Foreign-Trade Zone 110 Under the Alternative Site Framework; Albuquerque, New Mexico

Pursuant to its authority under the Foreign-Trade Zones Act of June 18, 1934, as amended (19 U.S.C. 81a-81u), the Foreign-Trade Zones Board (the Board) adopts the following Order:

Whereas, the Board adopted the alternative site framework (ASF) (15 CFR Sec. 400.2(c)) as an option for the establishment or reorganization of zones;

Whereas, the City of Albuquerque, New Mexico, grantee of Foreign-Trade Zone 110, submitted an application to the Board (FTZ Docket B-32-2016, docketed May 10, 2016, amended August 22, 2016) for authority to reorganize under the ASF with a service area of Bernalillo and Valencia Counties and the Cities of Santa Fe, Rio Rancho, Bernalillo and Moriarty, New Mexico, in and adjacent to the Albuquerque, New Mexico U.S Customs and Border Protection port of entry, and FTZ 110's existing Site 1 would be categorized as a magnet site;

Whereas, notice inviting public comment was given in the Federal Register (81 FR 30516, May 17, 2016) and the application has been processed pursuant to the FTZ Act and the Board's regulations; and,

Whereas, the Board adopts the findings and recommendations of the examiner's report, and finds that the requirements of the FTZ Act and the Board's regulations are satisfied;

Now, Therefore, the Board hereby orders:

The amended application to reorganize FTZ 110 under the ASF is approved, subject to the FTZ Act and the Board's regulations, including Section 400.13, to the Board's standard 2,000-acre activation limit for the zone.

Signed at Washington, DC, this 1st day of November 2016.
Paul Piquado,
Assistant Secretary of Commerce for Enforcement and Compliance, Alternate Chairman, Foreign-Trade Zones Board.
ATTEST:
Andrew McGilvray,
Executive Secretary.

[FR Doc. 2016-27349 Filed 11-10-16; 8:45 am]

BILLING CODE 3510-DS-P